DEPARTMENT OF DEFENSE

Department of the Army; Army Corps of Engineers

Notice of Intent To Prepare a Joint Environmental Impact Statement and Environmental Impact Report for the Lower Walnut Creek General Reevaluation Report

AGENCY: Department of the Army, U.S. Army Corps of Engineers; DOD.

ACTION: Notice of Intent.

SUMMARY: Pursuant to the National Environmental Policy Act (NEPA) and the California Environmental Quality Act (CEQA), the U.S. Army Corps of Engineers, Sacramento District (USACE) intends to prepare a joint environmental impact statement/environmental impact report (EIS/EIR) for the Lower Walnut Creek General Reevaluation Report (LWCGRR). USACE will serve as lead agency for compliance with NEPA, and the Contra Costa County Flood Control and Water Conservation District (CCCFCWCD) will serve as lead agency for compliance with CEQA. The LWCGRR will evaluate alternatives, including a locally preferred plan, for providing flood risk management and ecosystem restoration along the northern portion of the Walnut Creek watershed in the Central Coast of California. The approximate drainage area of the proposed action and analysis is 180 square miles.

DATES: Written comments regarding the scope of the environmental analysis should be received by March 23, 2010.

ADDRESSES: Written comments concerning this study and requests to be included on the LWCGRR mailing list should be submitted to Ms. Jamie LeFevre, U.S. Army Corps of Engineers, Sacramento District, Attn: Planning Division (CESPK-PD-R), 1325 J Street, Sacramento, CA 95814.

FOR FURTHER INFORMATION CONTACT: Ms. Jamie LeFevre via telephone at (916) 557-6693, e-mail at Jamie.M.Lefevre@usace.army.mil, or mail at (see ADDRESSES).

SUPPLEMENTARY INFORMATION: 1. Proposed Action. USACE is preparing an EIS/EIR to analyze the environmental impacts associated with a range of alternatives for providing flood damage reduction and ecosystem restoration along the northern portion of the Walnut Creek watershed (Figure 1).

2. Alternatives. The EIS/EIR will address an array of alternatives for providing flood risk management within the project area. Alternatives analyzed during the investigation may include, but are not limited to, a combination of one or more of the following flood risk management measures: modifying the channel cross section and building setback levees along the lower reaches of the creek to recreate a larger floodplain; increasing conveyance by raising levees; widening channels and floodway areas; dredging; and various floodplain management measures. Ecosystem restoration measures may include, but are not limited to: restoring riparian, wetland, and floodplain habitats for habitat restoration and/or providing fish passage.

3. Scoping Process.

a. A public scoping meeting will be held to present an overview of the LWCGRR and the EIS/EIR process, and to afford all interested parties with an opportunity to provide comments regarding the scope of analysis and potential alternatives. The public scoping meeting will be held at the Contra Costa County Public Works Department at 255 Glacier Drive in Martinez, CA on February 22, 2010, from 4 p.m. to 8 p.m.

b. Potentially significant issues to be analyzed in depth in the EIS/EIR include project specific and cumulative effects on hydraulics, wetlands and other waters of the U.S., vegetation and wildlife resources, special-status species, esthetics, cultural resources, recreation, land use, fisheries, water quality, air quality, and transportation.

c. USACE will consult with the State Historic Preservation Officer to comply with the National Historic Preservation Act and with the U.S. Fish and Wildlife Service and National Marine Fisheries Service to comply with the Endangered Species Act. USACE is also coordinating with the U.S. Fish and Wildlife Service to comply with the Fish and Wildlife Coordination Act. In addition, USACE or CCCFCWCD will need to obtain permits from the California Department of Fish and Game and the San Francisco Bay Regional Water Quality Control Board.

d. A 45-day public review period will be provided for all interested parties individuals and agencies to review and comment on the draft EIS/EIR. All interested parties are encouraged to respond to this notice and provide a current address if they wish to be notified of the draft EIS/EIR circulation.

4. Availability. The draft EIS/EIR is currently scheduled to be available for public review and comment in 2016.

Dated: February 8, 2010.
Thomas Chapman,
COL, EN, Commanding.

[FR Doc. 2010-3493 Filed 2-22-10; 8:45 am]

BILLING CODE 3720-58-P